DEPARTMENT OF AGRICULTURE

Food Safety and Inspection Service

[Docket No. FSIS-2022-0030]

National Advisory Committee on Meat and Poultry Inspection

AGENCY: Food Safety and Inspection Service (FSIS), U.S. Department of Agriculture (USDA).

ACTION: Notification of public meeting.

SUMMARY: Pursuant to the provisions of the rules and regulations of the Department of Agriculture and the Federal Advisory Committee Act (FACA), FSIS is announcing a virtual meeting of the National Advisory Committee on Meat and Poultry Inspection (NACMPI). The purpose of the Committee is to advise the Secretary of Agriculture on State and Federal meat and poultry inspection programs, food safety, and other matters that fall within the scope of the Federal Meat Inspection Act (FMIA), and the Poultry Products Inspection Act (PPIA). The committee will convene virtually on June 21-22, 2023, in a public meeting where FSIS will present one charge to the Committee: to offer input on ways FSIS can enhance outreach efforts to best promote equity and bring economic opportunity to underserved communities and individuals, while strengthening the food supply chain and ensuring compliance with food safety regulations.

DATES: The virtual public meeting is scheduled for June 21-22, 2023. The public meeting is from 10 a.m. to 4 p.m. EST on June 21 and 22, 2023.

ADDRESSES: The meeting is virtual and will be viewable via a link provided by email when you register for the meeting. Attendees must pre-register for the meeting. See the pre-registration instructions under “Registration and Meeting Materials.”

Public Comments: FSIS invites interested persons to submit comments on this meeting by May 25, 2023. Comments may be submitted by any of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2022-0030. Comments received in response to this docket will be made available for public inspection and posted without change, including any personal information, to https://www.regulations.gov.

Docket: For access to background documents or comments received, call (202) 937-4272 to schedule a time to visit the FSIS Docket Room at 1400 Independence Avenue SW, Washington, DC 20250-3700.

FOR FURTHER INFORMATION CONTACT: Katrina Green, Director, Resource and Administrative Management Staff—Designated Federal Officer, Office of Policy and Program Development, by email at NACMPI@usda.gov or telephone at 202-205-0495 regarding specific questions about the Committee or this meeting. General information about the Committee can also be found at: https://www.fsis.usda.gov/nacmpi. For the hearing impaired, contact the Federal Information Relay Service: https://www.federalrelay.us/ or 800-877-0996 (Voice, TTY, ASCII or Spanish).

SUPPLEMENTARY INFORMATION:

Background

The NACMPI was established in 1971 and is authorized under section 301(a)(4) of the FMIA (21 U.S.C. 661(a)(4)) to carry out the responsibilities imposed by 21 U.S.C. 607(c), 624, 645, 661(a)(3), and 661(c), and authorized under 21 U.S.C. 454(a)(4) of the PPIA, to carry out the responsibilities imposed by 21 U.S.C. 454(a)(3), 454(c), 457(b), and 460(e). The purpose of the Committee is to provide advice to the Secretary on meat and poultry inspection programs, food safety, and other matters that fall within the scope of the FMIA and PPIA. The current charter and other information about NACMPI can be found at https://www.fsis.usda.gov/policy/advisory-committees/national-advisory-committee-meat-and-poultry-inspection-nacmpi. Membership of NACMPI is drawn from consumers; public health and academic communities; state and local governments; and industry.

On June 21 and 22, 2023, NACMPI will review and discuss how FSIS can enhance outreach efforts to best promote equity and bring economic opportunity to underserved communities and individuals, while strengthening the food supply chain and ensuring compliance with food safety regulations. FSIS is seeking input on the topic regarding prospective applicants for FSIS inspection and existing small and very small establishments currently receiving FSIS inspection.

On January 20, 2021, the Biden Administration issued an Executive Order On Advancing Racial Equity and Support for Underserved Communities Through the Federal Government. The Executive Order states in part, “The Federal Government should pursue a comprehensive approach to advancing equity for all, including people of color and others who have been historically underserved, marginalized, and adversely affected by persistent poverty and inequality. Affirmatively advancing equity, civil rights, racial justice, and equal opportunity is the responsibility of the whole of our Government.” On April 9, 2021, the Secretary of Agriculture issued a Civil Rights Policy Statement supporting the goals of equity and opportunity laid out in the Executive Order.

On June 16, 2021, USDA published the Federal Register notice “Identifying Barriers in USDA Programs and Services; Advancing Racial Justice and Equity and Support for Underserved Communities at USDA” (86 FR 32013), which proposed the following definitions:

• The term “equity” means the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

• The term “underserved communities” means populations sharing a particular characteristic, as well as geographic communities, that have been systematically denied a full opportunity to participate in aspects of economic, social, and civic life, as exemplified by the list in the preceding definition of “equity.”

USDA supports the Biden Administration's commitment to providing services in ways that promote equity and opportunity for all. When the COVID-19 pandemic began, USDA made significant investments through its Pandemic Assistance Program, providing immediate relief to producers, businesses, food workers and others. USDA recognizes we must build back better and strengthen the food system across the supply chain, from how our food is produced to how it is purchased, and all the steps in between.

The goals of USDA's Food System Transformation framework include:

• Creating a fairer food system that combats market dominance and helps producers and consumers gain more power in the marketplace by creating new, more and better local market options. USDA's investments will deliver a better deal for farmers, ranchers, growers and consumers.

Consistent with the USDA's goals to better serve American producers and consumers, FSIS strives to provide inspection and other support to all stakeholders equitably. Some recent examples of how FSIS assists small businesses through initiatives to support small and very small establishments include:

• Answering regulatory and technical questions via the Small Plant Help Desk component of askFSIS;

• Providing direct outreach to small and very small establishments;

• Hosting regional small plant round table meetings to give small and very small establishment owners opportunities to interact directly with FSIS senior leaders;

• Organizing monthly industry town hall meetings where FSIS leaders give information about upcoming initiatives or other topics of interest to industry;

• Reducing overtime inspection charges for small and very small establishments;

• Supporting small and very small State-inspected establishments through cooperative partnerships with State inspection programs and the Cooperative Interstate Shipment agreements; and

• Providing numerous guidance documents and related webinars to industry, with a focus on small and very small establishments.

FSIS seeks input on ways to better target outreach to better promote equity and bring economic opportunity to underserved communities and individuals while strengthening the food supply chain. FSIS will ask the committee to consider the following:

Prospective Applicants for FSIS Inspection

1. What obstacles impede individuals in underserved communities from accessing FSIS' information resources, such as: guidelines and HACCP models posted on the FSIS website and the Small Plant Help Desk.

2. What barriers do individuals face when applying for FSIS inspection?

3. What steps, outreach methods, partnerships, or strategies should FSIS consider regarding awareness of existing resources in underserved communities?

Small and Very Small Establishments Currently Receiving FSIS Inspection

1. Are there any FSIS regulations or policies that create barriers or challenges for small and very small, regulated establishments?

2. What are the most critical kinds of information that would help small and very small establishments in underserved communities?

3. How can FSIS more effectively share scientific information with small and very small establishments so that they can use the best available information to support their food safety systems?

4. What organizations are most effective at providing assistance to small and very small establishments and what can FSIS learn from these organizations to enhance its own efforts to assist small and very small establishments?

5. What concrete actions can FSIS take, alone or in partnership with other stakeholder organizations, to more effectively aid existing small and very small FSIS regulated establishments in underserved communities?

FSIS will present the issue described above to the full Committee. The Committee will then divide into two subcommittees to discuss the issue regarding prospective applicants for FSIS inspection and existing small and very small establishments currently receiving FSIS inspection, respectively. Each subcommittee will provide a report of their comments and recommendations to the full Committee before the meeting concludes on June 22, 2023. FSIS will finalize the agenda on or before the meeting dates and post it on the FSIS website at: https://www.fsis.usda.gov/news-events/events-meetings.

Registration and Meeting Materials

There is no fee to register for the public meeting, but pre-registration is mandatory for participants attending. All attendees must register online at https://www.fsis.usda.gov/news-events/events-meetings.

Public Comments and Participation in Meetings

Stakeholders will have an opportunity to provide oral comments during the public meeting. Stakeholders must notify FSIS during registration of their wish to speak at the meeting. Stakeholders who do not notify FSIS during registration of their wish to speak will not have the opportunity to comment on the day of the public meeting. Due to the anticipated high level of interest in the opportunity to make public comments and the limited time available to do so, FSIS will do its best to accommodate all persons who registered and requested to provide oral comments and will limit all speakers to three minutes. FSIS encourages persons and groups who have similar interests to consolidate their information for presentation by a single representative.

Transcripts

As soon as the meeting transcripts are available, they will be accessible on the FSIS website at: https://www.fsis.usda.gov/policy/advisory-committees/national-advisory-committee-meat-and-poultry-inspection-nacmpi. The transcripts may also be viewed at the FSIS Docket Room at the address listed above.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/forms/electronic-forms and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov. USDA is an equal opportunity provider, employer, and lender.

Dated: April 18, 2023.
Cikena Reid,
USDA Committee Management Officer.

[FR Doc. 2023-08617 Filed 4-24-23; 8:45 am]

BILLING CODE 3410-DM-P